DEPARTMENT OF ENERGY

American Statistical Association Committee on Energy Statistics

AGENCY: Department of Energy.

ACTION: Notice of renewal.

SUMMARY: Pursuant to the Federal Advisory Committee Act (Pub. L. 92-463), I hereby certify that the renewal of the charter of the American Statistical Association Committee on Energy Statistics is in the public interest in connection with the performance of duties imposed on the Department of Energy by law. This determination follows consultation with the Committee Management Secretariat of the General Services Administration, pursuant to section 101-6.1029, title 41, Code of Federal Regulations.

FOR FURTHER INFORMATION CONTACT: Ms. Rachel M. Samuel at (202) 586-3279.

SUPPLEMENTARY INFORMATION: The purpose of the Committee is to provide advice on a continuing basis to the Administrator of the Energy Information Administration (EIA), including:

1. Periodic reviews of the elements of EIA information collection and analysis programs and the provision of recommendations;

2. Advice on priorities of technical and methodological issues in the planning, operation, and review of EIA statistical programs;

3. Advice on matters concerning improved energy modeling and forecasting tools, particularly regarding their functioning, relevancy, and results.

Issued in Washington, DC, on October 19, 2000.
James N. Solit,
Advisory Committee Management Officer.

[FR Doc. 00-27388 Filed 10-24-00; 8:45 am]

BILLING CODE 6450-01-P